DEPARTMENT OF LABOR

Employment and Training Administration

[TA-W-71,149]

Alumax Mill Products, Inc. Doing Business as Alcoa Mill Products Texarkana a Subsidiary of Alcoa, Inc. Nash, TX; Amended Certification Regarding Eligibility To Apply for Worker Adjustment Assistance

In accordance with Section 223 of the Trade Act of 1974, as amended (“Act”), 19 U.S.C. 2273, the Department of Labor issued a Certification of Eligibility to Apply for Worker Adjustment Assistance on February 25, 2010, applicable to workers and former workers of Alcoa Mill Products Texarkarna, a subsidiary of Alcoa, Inc., Nash, Texas. The Department's notice of determination was published in the Federal Register on Friday, April 23, 2010 (75 FR 21359).

At the request of a state workforce official, the Department reviewed the certification for workers of the subject firm. The workers are engaged in activities related to the production of rolled aluminum sheet.

New information shows that the legal entity from which workers of Alcoa Mill Products Texarkana, a subsidiary of Alcoa, Inc., Nash, Texas, was separated is Alumax Mill Products, Inc., a subsidiary of Alcoa, Inc.

The intent of the Department's certification is to properly identify the subject firm name from which the subject workers were separated. Accordingly, the Department is amending this certification to properly reflect this matter.

The amended notice applicable to TA-W-71,149 is hereby issued as follows:

All workers of Alumax Mill Products, Inc., doing business as Alcoa Mill Products Texarkana, a subsidiary of Alcoa, Inc., Nash, Texas, who became totally or partially separated from who became totally or partially separated from employment on or after June 11, 2008, and all workers in the group threatened with total or partial separation from employment on date of certification through two years from the date of certification, are eligible to apply for adjustment assistance under Chapter 2 of Title II of the Trade Act of 1974, as amended.

Signed in Washington, DC, this July 13, 2012.
Del Min Amy Chen,
Certifying Officer, Office of Trade Adjustment Assistance.

[FR Doc. 2012-18000 Filed 7-23-12; 8:45 am]

BILLING CODE 4510-FN-P